DEPARTMENT OF ENERGY

Federal Energy Regulatory Commission

Combined Notice of Filings #1

Take notice that the Commission received the following electric corporate filings:

Docket Numbers: EC15-59-000.

Applicants: ITC Midwest LLC.

Description: ITC Midwest LLC Application Pursuant to section 203 of the Federal Power Act to Acquire Assets.

Filed Date: 1/15/15.

Accession Number: 20150115-5090.

Comments Due: 5 p.m. ET 2/5/15.

Take notice that the Commission received the following electric rate filings:

Docket Numbers: ER10-1777-006; ER10-2983-005; ER10-2980-005; ER15-718-001.

Applicants: Sundevil Power Holdings, LLC, Castleton Energy Services, LLC, Castleton Power, LLC, West Valley Power, LLC.

Description: Notification of Change in Status of the Wayzata Entities.

Filed Date: 1/14/15.

Accession Number: 20150114-5295.

Comments Due: 5 p.m. ET 2/4/15.

Docket Numbers: ER11-2774-001.

Applicants: Virginia Electric and Power Company.

Description: Response to November 12, 2014 letter requesting additional information of Dominion Resources Services, Inc. on behalf of its marketing affiliates.

Filed Date: 1/14/15.

Accession Number: 20150114-5290.

Comments Due: 5 p.m. ET 2/4/15.

Docket Numbers: ER15-142-001.

Applicants: Midcontinent Independent System Operator, Inc., Van Ness Feldman LLP.

Description: Compliance filing per 35: 2015-01-15_MMU Compliance Filing to be effective N/A.

Filed Date: 1/15/15.

Accession Number: 20150115-5109.

Comments Due: 5 p.m. ET 2/5/15.

Docket Numbers: ER15-192-000.

Applicants: Arizona Public Service Company.

Description: Report Filing: Motion to Hold Proceeding in Abeyance—Service Agreemet Nos. 338 and 339 to be effective N/A.

Filed Date: 1/15/15.

Accession Number: 20150115-5248.

Comments Due: 5 p.m. ET 2/5/15.

Docket Numbers: ER15-237-001.

Applicants: Public Service Company of Colorado.

Description: Tariff Amendment per 35.17(b): 2015-1-15_Joint Dispatch Amendment Filing to be effective 1/1/2015.

Filed Date: 1/15/15.

Accession Number: 20150115-5131.

Comments Due: 5 p.m. ET 2/5/15.

Docket Numbers: ER15-348-001.

Applicants: Black Hills/Colorado Electric Utility Company, LP.

Description: Tariff Amendment per 35.17(b): Joint Dispatch Amendment Filing—Response to Staff Letter to be effective 1/1/2015.

Filed Date: 1/15/15.

Accession Number: 20150115-5268.

Comments Due: 5 p.m. ET 2/5/15.

Docket Numbers: ER15-649-001.

Applicants: The Connecticut Light and Power Company.

Description: Tariff Amendment per 35.17(b): Amendment to Revised MBR Tariff NUSCO Electric Rate Schedule, FERC No. 7 to be effective 2/16/2015.

Filed Date: 1/15/15.

Accession Number: 20150115-5172.

Comments Due: 5 p.m. ET 2/5/15.

Docket Numbers: ER15-651-001.

Applicants: Public Service Company of New Hampshire.

Description: Tariff Amendment per 35.17(b): Amendment to Revised MBR Tariff NUSCO Electric Rate Schedule, FERC No. 7 to be effective 2/16/2015.

Filed Date: 1/15/15.

Accession Number: 20150115-5217.

Comments Due: 5 p.m. ET 2/5/15.

Docket Numbers: ER15-652-001.

Applicants: Western Massachusetts Electric Company.

Description: Tariff Amendment per 35.17(b): Amendment to Revised MBR Tariff NUSCO Electric Rate Schedule, FERC No. 7 to be effective 2/16/2015.

Filed Date: 1/15/15.

Accession Number: 20150115-5227.

Comments Due: 5 p.m. ET 2/5/15.

Docket Numbers: ER15-851-000.

Applicants: PJM Interconnection, L.L.C.

Description: Section 205(d) rate filing per 35.13(a)(2)(iii): Original Service Agreement No. 4067; Queue No. Z2-088 to be effective 12/15/2014.

Filed Date: 1/14/15.

Accession Number: 20150114-5228.

Comments Due: 5 p.m. ET 2/4/15.

Docket Numbers: ER15-852-000.

Applicants: PJM Interconnection, L.L.C.

Description: Section 205(d) rate filing per 35.13(a)(2)(iii): Revisions to RPM and Related Rules in the Tariff and RAA (Stop-Gap) to be effective 4/1/2015.

Filed Date: 1/14/15.

Accession Number: 20150114-5265.

Comments Due: 5 p.m. ET 2/4/15.

Docket Numbers: ER15-853-000.

Applicants: Pacific Gas and Electric Company.

Description: Section 205(d) rate filing per 35.13(a)(2)(iii): Western WDT Allottees Filing to be effective 1/1/2015.

Filed Date: 1/15/15.

Accession Number: 20150115-5000.

Comments Due: 5 p.m. ET 2/5/15.

Docket Numbers: ER15-854-000.

Applicants: Pacific Gas and Electric Company.

Description: Section 205(d) rate filing per 35.13(a)(2)(iii): Western IA Allottees Filing to be effective 1/1/2015.

Filed Date: 1/15/15.

Accession Number: 20150115-5001.

Comments Due: 5 p.m. ET 2/5/15.

Docket Numbers: ER15-855-000.

Applicants: Washington Gas Energy Services, Inc.

Description: Section 205(d) rate filing per 35.13(a)(2)(iii): Normal filing to be effective 1/15/2015.

Filed Date: 1/15/15.

Accession Number: 20150115-5218.

Comments Due: 5 p.m. ET 2/5/15.

Docket Numbers: ER15-856-000.

Applicants: PJM Interconnection, L.L.C., Virginia Electric and Power Company.

Description: Section 205(d) rate filing per 35.13(a)(2)(iii): Dominion submits revisions to OATT Attachment H-16A to be effective 3/16/201.

Filed Date: 1/15/15.

Accession Number: 20150115-5234.

Comments Due: 5 p.m. ET 2/5/15.

Docket Numbers: ER15-857-000.

Applicants: PJM Interconnection, L.L.C.

Description: Section 205(d) rate filing per 35.13(a)(2)(iii): Original Service Agreement Nos. 4068, 4069; Queue Nos. Z2-043, Z2-044 to be effective 12/16/2014.

Filed Date: 1/15/15.

Accession Number: 20150115-5247.

Comments Due: 5 p.m. ET 2/5/15.

Docket Numbers: ER15-858-000.

Applicants: Granite Ridge Energy, LLC.

Description: Compliance filing per 35: Proposed Revisions to MBR Tariff to be effective 1/16/2015.

Filed Date: 1/15/15.

Accession Number: 20150115-5249.

Comments Due: 5 p.m. ET 2/5/15.

Docket Numbers: ER15-859-000.

Applicants: Southwest Power Pool, Inc.

Description: Section 205(d) rate filing per 35.13(a)(2)(iii): Revisions to Attachment H and AI to be effective 3/17/2015.

Filed Date: 1/15/15.

Accession Number: 20150115-5256.

Comments Due: 5 p.m. ET 2/5/15.

Docket Numbers: ER15-860-000.

Applicants: Mojave Solar Inc.

Description: Compliance filing per 35: Notice of Succession Revisions to MBR Tariff to be effective 1/15/2015.

Filed Date: 1/15/15.

Accession Number: 20150115-5257.

Comments Due: 5 p.m. ET 2/5/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 15, 2015.
Nathaniel J. Davis, Sr.,
Deputy Secretary.

[FR Doc. 2015-01006 Filed 1-21-15; 8:45 am]

BILLING CODE 6717-01-P